DEPARTMENT OF HEALTH AND HUMAN SERVICES

Administration on Aging

Agency Information Collection Activities: Proposed Submission to the Office of Management and Budget (OMB) for Clearance; Comment Request; Reinstatement of a Previously Approved Information Collection

AGENCY: Administration on Aging, HHS.

The Administration on Aging (AoA), Department of Health and Human Services, provides an opportunity for comment on the following proposal for the collection of information in compliance with the Paperwork Reduction Act (PRA; Public Law 96-511):

Title of Information Collection: Grantee Data Collection for the Evaluation of the Alzheimer's Disease Demonstration Grants to States Program.

Type of Request: Reinstatement of a previously approved collection for which approval has expired. This request significantly streamlines and reduces the amount of data collected as compared to previously approved requirements.

Use: Data is collected on client demographic and health characteristics, client service use, and program characteristics to adequately evaluate the implementation, progress and process of the Alzheimer's Disease Demonstration Grants to States Program (Section 398 of the Public Health Service Act, Pub. L. 78-410 as amended). Data is used by the grantee states to manage and evaluate their own programs. The data is also used by the AoA to evaluate and describe all projects funded by this initiative and address the program's statutory evaluation and Government Performance and Results Act (GPRA) requirements. Findings are used to manage the program and better target future activities, as well as to provide a final evaluation of each set of grants to Congress as set forth by statute.

Frequency: Client Intake Form—only once per client, data submitted quarterly, Service Use Form—quarterly, Agency Service Profile Form—annually.

Respondents: Agencies of State Governments and Territories that have been designated by the Governor as the sole applicant for the State and who have applied for a grant under this program.

Estimated Number of Responses: Client Intake Form—5000/year, Service Use Form—2500/year, Agency Service Profile Form—125/year.

Total Estimated Burden Hours: Client Intake Form—100 hours/state/year, Service Use Form—420 hours/state/year, Agency Service Profile Form—1.25 hours/state/year.

Additional Information or Comments: The Administration on Aging plans to submit to the Office of Management and Budget for reinstatement of a previously approved collection for which approval has expired, for the Alzheimer's Disease Demonstration Grants to States Program, pursuant to requirements set forth by statute. Written comments and recommendations for the proposed information collection should be sent within 60 days of the publication of this notice directly to the following address: Office of Program Development, Administration on Aging, Attention: Melanie Starns, 330 Independence Avenue, SW., Rm. 4270, Washington, DC 20201.

Dated: July 3, 2001.
Norman L. Thompson,
Acting Principal Deputy Assistant Secretary for Aging.

[FR Doc. 01-17116 Filed 7-9-01; 8:45 am]

BILLING CODE 4154-01-P